DEPARTMENT OF TRANSPORTATION

Federal Transit Administration

Announcement of Fiscal Year 2021 Grants for Buses and Bus Facilities Program Project Selections

AGENCY: Federal Transit Administration (FTA), Department of Transportation (DOT).

ACTION: Notice; announcement of project selections. Grants for Buses and Bus Facilities Program.

SUMMARY: The U.S. Department of Transportation's (DOT) Federal Transit Administration (FTA) announces the allocation of $409,274,220 to projects under the Fiscal Year (FY) 2021 Grants for Buses and Bus Facilities Program (Buses and Bus Facilities Program) and provides administrative guidance on project implementation.

FOR FURTHER INFORMATION CONTACT: Successful applicants should contact the appropriate FTA Regional Office for information regarding applying for the funds or program-specific information. A list of Regional Offices can be found at www.transit.dot.gov/. Unsuccessful applicants may contact Tom Wilson, Office of Program Management at (202) 366-5279, email: Thomas.Wilson@dot.gov within 30 days of this announcement to arrange a proposal debriefing. A TDD is available at 1-800-877-8339 (TDD/FIRS).

SUPPLEMENTARY INFORMATION: Federal public transportation law (49 U.S.C. 5339(b)) authorizes FTA to make competitive grants for buses and bus facilities. Federal public law (49 U.S.C. 5338(a)(2)(M)) authorized $289,044,179 in FY 2021 funds for the Grants for Buses and Bus Facilities Program. The Consolidated Appropriations Act, 2021, appropriated an additional $125,000,000 for the Grants for Buses and Bus Facilities Program. After the oversight takedown of $4,455,331, FTA is announcing the availability of $409,588,848 for the Grants for Buses and Bus Facilities Program.

On September 20, 2021, FTA published a Notice of Funding Opportunity (NOFO) (86 FR 52291) announcing the availability of $409,588,848 in competitive funding under the Buses and Bus Facilities Program. These funds will provide financial assistance to states and eligible public agencies to replace, rehabilitate, purchase, or lease buses, vans, and related equipment, and for capital projects to rehabilitate, purchase, construct, or lease bus-related facilities. In response to the NOFO, FTA received 303 eligible project proposals totaling approximately $2.56 billion in Federal funds. Project proposals were evaluated based on each applicant's responsiveness to the program evaluation criteria outlined in the NOFO.

Based on the criteria in the NOFO, FTA is funding 70 projects, as shown in Table 1, for a total of $409,274,220. Recipients selected for competitive funding are required to work with their FTA Regional Office to submit a grant application in FTA's Transit Award Management System (TrAMS) for the projects identified in the attached table to quickly obligate funds. Grant applications must only include eligible activities applied for in the original project application. Funds must be used consistent with the competitive proposal and for the eligible capital purposes described in the NOFO.

In cases where the allocation amount is less than the proposer's total requested amount, recipients are required to fund the scalable project option as described in the application. If the award amount does not correspond to the scalable option, the recipient should work with the Regional Office to reduce scope or scale the project such that a complete phase or project is accomplished. Recipients may also provide additional local funds to complete a proposed project. A discretionary project identification number has been assigned to each project for tracking purposes and must be used in the TrAMS application.

Selected projects are eligible to incur costs under pre-award authority no earlier than the date projects were publicly announced. Pre-award authority does not guarantee that project expenses incurred prior to the award of a grant will be eligible for reimbursement, as eligibility for reimbursement is contingent upon other requirements, such as planning and environmental requirements, having been met. For more about FTA's policy on pre-award authority, please see the current FTA Apportionments, Allocations, and Program Information and Interim Guidance at https://www.transit.dot.gov/funding/apportionments. Post-award reporting requirements include submission of Federal Financial Reports and Milestone Progress Reports in TrAMS (see FTA Circular 5010.1E). Recipients must comply with all applicable Federal statutes, regulations, executive orders, FTA circulars, and other Federal requirements in carrying out the project supported by the FTA grant. FTA emphasizes that recipients must follow all third-party procurement requirements set forth in Federal public transportation law (49 U.S.C. 5325(a)) and described in the FTA Third Party Contracting Guidance Circular (FTA Circular 4220.1). Funds allocated in this announcement must be obligated in a grant by September 30, 2025.

Technical Review and Evaluation Summary: The FTA assessed all project proposals that were submitted under the FY 2021 Buses and Bus Facilities Program competition according to the following evaluation criteria. The specific metrics for each criterion were described in the September 20, 2021, NOFO:

1. Demonstration of Need

2. Demonstration of Benefits

3. Planning/Local Prioritization

4. Local Financial Commitment

5. Project Implementation Strategy

6. Technical, Legal, and Financial Capacity

For each project, a technical review panel assigned a rating of Highly Recommended, Recommended, or Not Recommended for each of the six criteria. The technical review panel then assigned an overall rating of Highly Recommended, Recommended, Not Recommended, or Ineligible to the project proposal.

Projects were assigned a final overall rating of Highly Recommended if they were rated Highly Recommended in at least four categories overall, with no Not Recommended ratings. Projects were assigned a final overall rating of Recommended if the projects had three or more Recommended ratings and no Not Recommended ratings. Projects were assigned a rating of Not Recommended if they received a Not Recommended rating in any criteria. A summary of the final overall ratings for all 303 eligible project proposals is shown in the table below.

Overall Project Ratings
[Eligible submissions]
Highly Recommended | 166
Recommended | 95
Not Recommended | 42
Total | 303

As outlined in the NOFO, FTA made the final selections based on the technical ratings as well as geographic diversity, diversity in the size of transit systems receiving funding, Administration priorities including climate change, and/or receipt of other recent competitive awards.

As further outlined in the NOFO, in some cases, due to funding limitations, proposers that were selected for funding received less than the amount originally requested.

Nuria I. Fernandez,
Administrator.

Table 1—FY 2021 Grants for Buses and Bus Facilities Project Selections
State | Recipient | Project ID | Project description | Allocation
AK | City and Borough of Juneau, Capital Transit | D2022-BUSC-001 | On-route electric bus charging infrastructure | $1,446,827
AL | City of Mobile | D2022-BUSC-002 | Bus replacement | 4,850,535
AR | City of Jonesboro | D2022-BUSC-003 | Bus stop technology upgrades | 752,000
AZ | Northern Arizona Intergovernmental Transportation Authority | D2022-BUSC-004 | Electric buses and charging equipment procurement; bus storage facility construction | 1,292,118
CA | Eastern Contra Costa Transit Authority | D2022-BUSC-005 | Zero-emission bus infrastructure | 3,998,543
CA | Sacramento Regional Transit District | D2022-BUSC-006 | Bus replacement | 5,250,000
CA | City of Torrance Transit Department | D2022-BUSC-007 | Transit fleet modernization | 6,280,000
CA | Napa Valley Transportation Authority | D2022-BUSC-008 | Zero-emission bus electrification | 8,455,856
CA | Riverside Transit Agency | D2022-BUSC-009 | Construction of hydrogen fueling stations and workforce training | 8,787,846
CA | San Luis Obispo Regional Transit Authority | D2022-BUSC-010 | Zero-emission bus replacement | 8,799,979
CA | SunLine Transit Agency | D2022-BUSC-011 | Zero-emission bus procurement and bus refurbishment for the Coachella Valley | 8,409,070
CA | City of Norwalk: Norwalk Transit System | D2022-BUSC-012 | Zero-emission battery electric bus replacement | 3,530,822
CA | City of Santa Rosa | D2022-BUSC-013 | Replacing diesel buses with battery electric and supporting infrastructure | 4,288,300
CA | North County Transit District (NCTD) | D2022-BUSC-014 | Hydrogen electric bus replacement | 4,800,000
CA | City of Cerritos | D2022-BUSC-015 | Electric bus procurement and fleet replacement | 4,378,140
CA | Foothill Transit | D2022-BUSC-016 | Zero-emission double deck bus procurement | 7,942,200
CA | California DOT on behalf of the City of Arvin | D2022-BUSC-017 | Rural battery electric bus replacement | 2,922,550
CA | California DOT on behalf of Yosemite Area Regional Transportation System (YARTS) | D2022-BUSC-018 | Improving bus system inter-modal connectivity to Yosemite National Park | 4,600,625
CO | State of Colorado, Department of Transportation (CDOT) | D2022-BUSC-019 | Snowmass Multimodal Transit Station | 13,500,000
CO | State of Colorado, Department of Transportation (CDOT) | D2022-BUSC-020 | Rural regional transit center renovations and expansion | 9,350,000
CT | Connecticut Department of Transportation | D2022-BUSC-021 | Zero-emission bus procurement | 11,446,538
DE | Delaware Transit Corporation | D2022-BUSC-022 | Rehoboth Transit Center modernization | 5,400,000
FL | City of Gainesville Dept of Transportation & Mobility, Regional Transit System | D2022-BUSC-023 | Bus replacement and East Gainesville transfer station construction | 10,660,817
FL | Pinellas Suncoast Transit Authority | D2022-BUSC-024 | Electric bus and charging expansion | 18,399,000
GA | Metropolitan Atlanta Rapid Transit Authority (MARTA) | D2022-BUSC-025 | Clayton County Multipurpose Operations and Maintenance Facility | 15,000,000
HI | Honolulu, City and County of | D2022-BUSC-026 | Battery electric bus acquisition and service expansion | 4,711,900
IA | Ames Transit Agency, d/b/a CyRide | D2022-BUSC-027 | Articulated electric bus procurement | 3,185,374
ID | Valley Regional Transit | D2022-BUSC-028 | Transit vehicle replacement and electrification | 1,920,000
IL | Madison County Mass Transit District | D2022-BUSC-029 | Bus replacement | 2,700,000
IN | South Bend Public Transportation Corporation | D2022-BUSC-030 | Bus replacement | 4,327,304
IN | Indianapolis Public Transportation Corporation | D2022-BUSC-031 | Enhanced bus stops | 2,346,658
KS | Prairie Band Potawatomi Nation | D2022-BUSC-032 | Rural accessible van procurement | 52,972
KY | Transit Authority of the Lexington-Fayette Urban County Government | D2022-BUSC-033 | Bus replacement | 4,107,642
LA | City of Shreveport | D2022-BUSC-034 | City-wide bus shelter improvements | 1,948,000
MA | Massachusetts Bay Transportation Authority | D2022-BUSC-035 | Maintenance facility replacement and electrification | 5,000,000
MD | MDOT—MTA on Behalf of Harford County | D2022-BUSC-036 | Bus replacement | 1,498,000
ME | Greater Portland Transit District | D2022-BUSC-037 | Bus replacement | 1,887,000
MI | Michigan Department of Transportation | D2022-BUSC-038 | Bus replacement and fleet expansion in the State of Michigan | 6,199,631
MI | Michigan Department of Transportation | D2022-BUSC-039 | Bus facility replacement, expansion, and rehabilitation for four rural transit systems | 7,391,200
MN | Minnesota Valley Transit Authority | D2022-BUSC-040 | Burnsville bus garage modernization | 4,960,000
MN | City of Rochester | D2022-BUSC-041 | Bus Stop improvement and 75th St. Park and Ride construction | 4,339,344
MO | Bi-State Development Agency of the Missouri-Illinois Metropolitan District | D2022-BUSC-042 | Battery electric bus deployment in DeBaliviere | 4,098,410
MT | City of Billings, MET Transit Division | D2022-BUSC-043 | Bus replacement and facility refurbishment | 3,028,000
NC | City of Greensboro | D2022-BUSC-044 | Replacing diesel buses with zero-emission buses and infrastructure in the City of Greensboro | 3,008,800
NC | City of Concord | D2022-BUSC-045 | Bus replacement | 3,966,318
NC | City of Durham | D2022-BUSC-046 | Durham Station renovation | 10,800,000
NM | City of Albuquerque | D2022-BUSC-047 | Bus wash system | 1,161,100
NV | Regional Transportation Commission of Southern Nevada | D2022-BUSC-048 | Hydrogen fuel cell bus procurement and solar lighting for bus stops | 4,870,000
NY | Niagara Frontier Transportation Authority | D2022-BUSC-049 | Battery electric bus deployment | 4,844,000
NY | Metropolitan Transportation Authority | D2022-BUSC-050 | Bus depot renovation | 12,337,280
OH | Laketran | D2022-BUSC-051 & D2022-BUSC-052 | Bus facility renovation and expansion | 7,233,149 & 7,448,832
OH | Portage Area Regional Transportation Authority | D2022-BUSC-053 | Bus replacement | 1,514,888
OH | Toledo Area Regional Transit Authority | D2022-BUSC-054 | Bus facility renovation and safety improvements | 2,307,200
OH | Southwest Ohio Regional Transit Authority (SORTA) | D2022-BUSC-055 | Bus replacement with new green diesel and electric buses | 10,134,960
OH | Greater Cleveland Regional Transit Authority (GCRTA) | D2022-BUSC-056 | Bus facility roofing improvement | 4,000,000
OK | Oklahoma Department of Transportation | D2022-BUSC-057 | Rural bus facility rehabilitation | 914,725
OR | Rogue Valley Transportation District | D2022-BUSC-058 | Bus facility expansion | 12,552,523
OR | Lane Transit District | D2022-BUSC-059 | Zero-emission bus replacement | 4,891,676
OR | Oregon Department of Transportation, Public Transportation Division | D2022-BUSC-060 | Bus fleet expansion | 244,800
PA | Southeastern Pennsylvania Transportation Authority | D2022-BUSC-061 | South Philadelphia Transportation Center | 9,800,000
SC | City of Rock Hill | D2022-BUSC-062 | Transit fleet and facilities expansion | 2,832,848
TX | Galveston, City of | D2022-BUSC-063 | Low-emission fleet replacement | 1,060,000
TX | Fort Worth Transportation Authority | D2022-BUSC-064 | Bus facility improvements | 6,484,320
TX | Texas Department of Transportation | D2022-BUSC-065 | Rural transit asset replacement & modernization | 22,850,000
UT | Utah Department of Transportation | D2022-BUSC-066 | Rural bus transit expansion project | 2,389,699
VA | Central Shenandoah Planning District Commission | D2022-BUSC-067 | Bus transit hub rehabilitation | 916,500
WA | Clark County Public Transportation Benefit Area | D2022-BUSC-068 | Bus replacement | 2,742,600
WA | Kitsap Transit | D2022-BUSC-069 | Battery-electric buses and charging infrastructure procurement | 10,400,000
WA | Central Puget Sound Regional Transit Authority | D2022-BUSC-070 | Bus procurement and station construction for I-405 Bus Rapid Transit Service | 12,924,801
WI | City of Madison | D2022-BUSC-071 | Bus maintenance and administrative facility improvements | 6,400,000
Total |  |  |  | 409,274,220

[FR Doc. 2022-05734 Filed 3-17-22; 8:45 am]

BILLING CODE 4910-57-P